DEPARTMENT OF LABOR

Employment and Training Administration

[TA-W-58,982]

Guildcraft of California, Rancho Dominguez, CA; Notice of Termination of Investigation

Pursuant to Section 221 of the Trade Act of 1974, as amended, an investigation was initiated on March 10, 2006 in response to a petition filed by a company official on behalf of workers at Guildcraft of California, Rancho Dominguez, California.

The petitioner has requested that the petition be withdrawn. Consequently, the investigation has been terminated.

Signed at Washington, DC, this 16th day of March, 2006.
Elliott S. Kushner,
Certifying Officer, Division of Trade Adjustment Assistance.

[FR Doc. E6-4605 Filed 3-28-06; 8:45 am]

BILLING CODE 4510-30-P